ENVIRONMENTAL PROTECTION AGENCY

[ER-FRL-9051-8]

Environmental Impact Statements; Notice of Availability

Responsible Agency: Office of Federal Activities, General Information 202-564-5632 or https://www.epa.gov/nepa.

Weekly receipt of Environmental Impact Statements (EIS)

Filed July 6, 2020, 10 a.m. EST Through July 13, 2020, 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20200137, Final, USFS, OR, Shasta Agness Landscape Restoration Project, Review Period Ends: 08/31/2020, Contact: Michelle Calvert 541-471-6788.

EIS No. 20200140, Final, FERC, CA, Don Pedro Hydroelectric Project and La Grange Hydroelectric Project, Review Period Ends: 08/17/2020, Contact: Office of External Affairs 866-208-3372.

EIS No. 20200141, Final Supplement, USAF, TT, Tinian Divert Infrastructure Improvements, Commonwealth of the Northern Mariana Islands, Review Period Ends: 08/17/2020, Contact: Julianne Turko 210-925-3777.

EIS No. 20200142, Draft, GSA, CA, Chet Holifield Federal Building, Comment Period Ends: 08/31/2020, Contact: Osmahn Kadri 415-522-3617.

EIS No. 20200143, Final, USACE, IL, Chicago Area Waterway System Dredged Material Management Plan, Review Period Ends: 08/17/2020, Contact: Alex Hoxsie 312-846-5587.

EIS No. 20200144, Draft, MARAD, CA, Port of Long Beach Pier B On-Dock Rail Support Facility Project, Comment Period Ends: 08/31/2020, Contact: Alan Finio 202-366-8024.

EIS No. 20200145, Final, NOAA, FL, Coral Reef Conservation Program Final Programmatic Environmental Impact Statement, Review Period Ends: 08/17/2020, Contact: Elizabeth Fairey 301-427-8632.

Amended Notice

EIS No. 20200112, Draft, USACE, FL, Miami-Dade Back Bay Coastal Storm Risk Management Draft Integrated Feasibility Report and Programmatic Environmental Impact Statement, Comment Period Ends: 08/19/2020, Contact: Justine Woodward 757-201-7728.

Revision to FR Notice Published 6/5/2020; Extending the Comment Period from 7/20/2020 to 8/19/2020.

Dated: July 13, 2020.
Cindy S. Barger,
Director, NEPA Compliance Division, Office of Federal Activities.

[FR Doc. 2020-15444 Filed 7-16-20; 8:45 am]

BILLING CODE 6560-50-P